DEPARTMENT OF JUSTICE

Antitrust Division

Notice Pursuant to the National Cooperative Research and Production Act of 1993—National Armaments Consortium

Notice is hereby given that, on April 8, 2019, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, 1st Edge LLC, Huntsville, AL; 300 Below, Inc., Decatur, IL; 3rd Millennium Group, LLC, Boxborough, MA; A.T. Kearney Public Sector and Defense Services, LLC, Arlington, VA; ArmorWorks Enterprises, Inc., Chandler, AZ; Black River Systems Company, Inc., Utica, NY; Converged Security Solutions, LLC, Reston, VA; Corficient Engineering Solutions Inc., Lake Hopatcong, NJ; Crossflow Technologies, Inc., Albertville, AL; DRS Network & Imaging Systems, LLC, Huntsville, AL; Eastern Auto, Inc., Farmingdale, NJ; Envention LLC, Huntsville, AL; Frontier Technology Inc., Beavercreek, OH; General Technology Systems LLC, Boston, MA; Hart Scientific Consulting International, Tucson, AZ; Heron Systems Incorporated, California, MD; Hy-Tek Manufacturing Company, Inc., Sugar Grove, IL; IBC Materials and Technologies, LTD, Lebanon, IN; ICAMR, Inc., dba BRIDG, Kissimme, FL; IMSAR LLC, Springville, UT; ISSAC Corp., Colorado Springs, CO; ITT Enidine, Inc., Orchard Park, NY; Lone Star Aerospace, Inc., Addison, TX; MartinFederal Consulting, LLC, Huntsville, AL; Matrix Research, Inc., Dayton, OH; Maztech Industries, LLC, Irvine, CA; Metamagnetics Inc., Westborough, MA; MSI Defence Systems US Inc., Rock Hill, SC; NextGen Federal Systems, LLC, Morgantown, WV; Nu-Trek, Inc., San Diego, CA; OSS Suppressors, LLC, Murray, UT; Parker-Hannifin Corporation, Mayfield Heights, OH; Phase Electronics, Inc., Rockville, MD; Programs Management Analytics & Technologies, Inc., Norfolk, VA; QuantiTech, Inc., Huntsville, AL; Regents of New Mexico State University—Physical Science Laboratory, Las Cruces, NM; ReLogic Research, Inc., Huntsville, AL; Rolls Royce Corporation, Indianapolis, IN; SAZE Technologies, LLC, Silver Springs, CO; Scaled Power Incorporated, San Francisco, CA; Sciperio Inc., Orlando, FL; SemQuest Incorporated, Colorado Springs, CO; Sierra Circuits, Inc. (dba Sierra Proto Express), Sunnyvale, CA; Soar Technology, Inc., Ann Arbor, MI; Spear Research, LLC, Nashua, NH; Strategic Resilience Group, LLC, Stafford, VA; Summit Information Solutions, Inc., Glen Allen, VA; Swift Engineering, Inc., San Clemente, CA; Thales Defense & Security, Inc., Clarksburg, MD; The Ultra-met Company, Urbana, OH; Torrey Pines Logic, Inc., San Diego, CA; Total Technology, Inc., Cherry Hill, NJ; Troy 7, Inc., Huntsville, AL; UES, Inc., Beavercreek, OH; Universal Technology Corporation, Dayton, OH; University of Mississippi, University, MS; University of South Alabama, Mobile, AL; Vidrovr Inc., New York, NY; and Wyle Laboratories, Inc., Huntsville, AL, have been added as parties to this venture.

Also, A.F. Technologies, Inc., Arlington, TX; AECOM, Germantown, MD; American Plastic Cartridge and Shell, LLC, Philadelphia, PA; Arizona Engineering Technologies, Inc., Scottsdale, AZ; BANC3, Inc., Princeton, NJ; Barber-Nichols Inc., Arvada, CO; Boston Engineering Corporation, Waltham, MA; Central Screw Products dba Detroit Gun Works, Troy, MI; ChemImage Biothreat, LLC DBA ChemImage Sensor Systems, Pittsburgh, PA; Custom MMIC Design Services Inc., Chelmsford, MA; Decilog, Inc., Melville, NY; Digital Solid State Propulsion LLC, Reno, NV; Dynamic Matter LLC, Englewood, CO; Fantastic Data, LLC, San Francisco, CA; General Sciences, Inc., Souderton, PA; Jet Industrial Electronics, Oak Ridge, NJ; Magnesium Elektron North American, Inc., Madison, IL; Megaray LLC, New York, NY; MegaWave Corporation, Devens, MA; Optek Global Solutions, Inc., Los Angeles, CA; Projects Unlimited Inc., Dayton, OH; Pulse Aerospace, LLC, Lawrence, KS; Pyrolink International, Inc., Alexandria, VA; Resodyn Acoustic Mixers, Butte, MT; Rubix Strategies LLC, Lawrence, MS; SkyBridge Tactical, LLC, Tampa, FL; TERMA North America Inc., Warner Robins, GA; The Samraksh Company, Dublin, OH; Trex Enterprises Corporation, San Diego, CA; Triumph Structures, Los Angeles, Inc. (TSLA), City of Industry, CA; TROM Technologies, Potlach, ID; Troy Industries, Inc., West Springfield, MA; Vector ElectroMagnetics, LLC, Beavercreek, OH; and Volans-I, Inc., San Francisco, CA, have withdrawn as parties to this venture.

No other changes have been made in either the membership or planned activity of the group research project. Membership in this group research project remains open, and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on April 17, 2019. A notice was published in the Federal Register pursuant to Section 6(b) of the Act on May 17, 2019 (84 FR 22519).

Suzanne Morris,
Chief, Premerger and Division Statistics Unit, Antitrust Division.

[FR Doc. 2019-19073 Filed 9-3-19; 8:45 am]

BILLING CODE 4410-11-P